DEPARTMENT OF TRANSPORTATION

Federal Aviation Administration

Thirty Sixth RTCA SC-214 Standards for Air Traffic Data Communications Services Plenary

AGENCY: Federal Aviation Administration (FAA), U.S. Department of Transportation (DOT).

ACTION: Thirty Sixth RTCA SC-214 Standards for Air Traffic Data Communications Services Plenary.

SUMMARY: The FAA is issuing this notice to advise the public of a meeting of Thirty Sixth RTCA SC-214 Standards for Air Traffic Data Communications Services Plenary.

DATES: The meeting will be held June 25-28, 2018 9:00 a.m.-5:00 p.m.

ADDRESSES: The meeting will be held at: EUROCAE, 9-23 rue Paul Lafargue, “Le Trangle” building, 93200, Saint-Denis, France.

FOR FURTHER INFORMATION CONTACT: Karan Hofmann at khofmann@rtca.org or 202-330-0680, or The RTCA Secretariat, 1150 18th Street NW, Suite 910, Washington, DC 20036, or by telephone at (202) 833-9339, fax at (202) 833-9434, or website at http://www.rtca.org.

SUPPLEMENTARY INFORMATION: Pursuant to section 10(a) (2) of the Federal Advisory Committee Act (Pub. L. 92-463, 5 U.S.C., App.), notice is hereby given for a meeting of the Thirty Sixth RTCA SC-214 Standards for Air Traffic Data Communications Services Plenary. The agenda will include the following:

1. Welcome and Administrative Remarks

2. Introductions

3. Agenda Review

4. Meeting-Minutes Review

5. Review/Resolution of DO-224D FRAC Comments

6. Review/Resolution of DO-281C and ED-92C Final Review and Comment(FRAC)/Open Consultation Comments

7. Approve release of DO-224D for presentation to PMC

8. Approve release of DO-281C for presentation to PMC and ED-92C to Council

9. Industry Presentation: Connectionless VDL2 Network

10. Schedule Update

11. Date, Place and Time of Next Meeting

12. Other Topics

13. Adjourn Plenary

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on April 30, 2018.
Michelle Swearingen,
Systems and Equipment Standards Branch, AIR-6B0, Policy and Innovation Division, AIR-600, Federal Aviation Administration.

[FR Doc. 2018-09445 Filed 5-8-18; 8:45 am]

BILLING CODE 4910-13-P